DEPARTMENT OF EDUCATION

National Board for Education Sciences

AGENCY: National Board for Education Sciences, Department of Education, Institute of Education Sciences (IES).

ACTION: Notice of an open meeting.

SUMMARY: This notice sets forth the agenda, time, and instructions to access or participate in the National Board for Education Sciences (hereafter referred to as NBES or Board) virtual meeting scheduled for September 11, 2023. This notice provides information about the meeting to members of the public who may be interested in attending the meeting and/or providing written comment. Notice of this meeting is required under 5 U.S.C. chapter 10 (Federal Advisory Committees).

ADDRESSES: The meeting will be conducted virtually.

DATES: The NBES virtual meeting will be held on September 11, 2023, from 12:00 p.m.-4:30 p.m. (EST).

FOR FURTHER INFORMATION CONTACT: Andrea Miralia, Designated Federal Officer (DFO) for NBES, (PCP 4126-1), U.S. Department of Education, IES: 550 12th St. SW, Washington, DC 20024, Telephone: (202) 245-6046, email: andrea.miralia@ed.gov.

SUPPLEMENTARY INFORMATION:

Statutory Authority and Function: The Board is authorized by § 116 of the Education Sciences Reform Act of 2002 (20 U.S.C. 9516). The Board is established as part of the U.S. Department of Education, IES, and shall, consistent with 20 U.S.C. 9514, 9515(b) and (c), 9516, and 9567, function as a board of directors for IES. IES' mission is to provide national leadership in expanding fundamental knowledge and understanding of education from early childhood through postsecondary study, in order to provide parents, educators, students, researchers, policymakers, and the general public with reliable information about the condition and progress of education in the United States, the educational practices that support learning and improve academic achievement and access to educational opportunities for all students, and the effectiveness of Federal and other education programs.

The Board's responsibilities are: (1) advise and consult with the Director of IES (Director) on the policies of IES; (2) consider and approve priorities proposed by the Director under 20 U.S.C. 9515 to guide the work of IES; (3) transmit approved priorities to the appropriate congressional committee (20 U.S.C. 9515(b)); (4) ensure that the priorities of IES and the National Education Centers are consistent with the mission of IES (20 U.S.C. 9515(c)); (5) review and approve procedures for technical and scientific peer review of the activities of IES; (6) advise the Director on the establishment of activities to be supported by IES, including the general areas of research to be carried out by the National Center for Education Research and the National Center for Special Education Research; (7) present to the Director such recommendations as it may find appropriate for (a) the strengthening of education research, and (b) the funding of IES; (8) advise the Director on the funding of applications for grants, contracts, and cooperative agreements for research, after the completion of peer review; (9) review and regularly evaluate the work of IES, to ensure that scientifically valid research, development, evaluation, and statistical analysis are consistent with the standards for such activities under this title; (10) advise the Director on ensuring that activities conducted or supported by IES are objective, secular, neutral, and non-ideological, and are free of partisan political influence and racial, cultural, gender, or regional bias; (11) solicit advice and information from those in the educational field, particularly practitioners and researchers, to recommend to the Director topics that require long-term, sustained, systematic, programmatic, and integrated research efforts, including knowledge utilization and wide dissemination of research, consistent with the priorities and mission of IES; (12) advise the Director on opportunities for the participation in, and the advancement of, women, minorities, and persons with disabilities in education research, statistics, and evaluation activities of IES; (13) recommend to the Director ways to enhance strategic partnerships and collaborative efforts among other Federal and State research agencies; (14) recommend to the Director individuals to serve as Commissioners of the National Education Centers; and (15) make recommendations to the President with respect to the appointment of the Director (20 U.S.C. 9514).

Meeting Agenda: The purpose of this meeting is to convene the members of NBES to conduct the following business: (1) call to order and welcome by the Director and the DFO for the Board; (2) member roll call; (3) housekeeping on meeting ground rules; (4) ceremonial swearing-in of NBES members by the Director; (5) review of member roles and duties; (6) Chair nomination and election; (7) remarks from the elected Chairperson; (8) introduction of the following IES Offices and Centers: Office of the Director, including Office of Science, Administration and Policy, and Data Sciences and Communications, National Center for Education Evaluation and Regional Assistance (NCEE), National Center for Education Research (NCER), National Center for Special Education Research (NCSER), and National Center for Education Statistics (NCES); (9) presentation by the Director on the priorities of IES, followed by Board discussion, (10) a presentation by the Director of the Institute of Education Sciences on the overview and status of National Center for Advanced Development in Education (NCADE) and ESRA (Education Sciences Reform Act); and (11) closing remarks.

Instructions for Accessing the Meeting: Members of the public interested in attending this virtual meeting may email the DFO listed in this notice no later than 11:59 p.m. Eastern Time (ET) on September 4, 2023. The DFO will provide a link and instructions on how to access the meeting via Microsoft Teams.

Public Comment: Members of the public interested in submitting written comments may do so by emailing the DFO listed in this notice no later than 11:59 p.m. ET on September 4, 2023. Please note that written comments should pertain to the work of NBES.

Reasonable Accommodations: The virtual meeting is accessible to individuals with disabilities. If you will need an auxiliary aid or service for the meeting (e.g., interpreting service, assistive listening device, or materials in an alternate format), notify the DFO listed in this notice no later than Sunday, September 3, 2023. Although we will attempt to meet a request received after that date, we may not be able to make available the requested auxiliary aid or service because of insufficient time to arrange it.

Access to Records of the Meeting: The Department will post the official minutes of this meeting on the IES website, https://ies.ed.gov/director/board/index.asp, no later than 30 days after the meeting. Pursuant to 5 U.S.C. 1009(b), the public may also inspect NBES records at the U.S. Department of Education, IES, 550 12th St. SW, Washington, DC 2002, Monday-Friday, 8:30 a.m. to 5:00 p.m. ET. Please email andrea.miralia@ed.gov to schedule an appointment.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site. You also may access documents of the Department published in the Federal Register by using the article search feature at: www.federalregister.gov. Specifically, through the advanced search feature at this site, you can limit your search to documents published by the Department.

Authority: § 116 of the Education Sciences Reform Act of 2002 (20 U.S.C. 9516).

Mark Schneider,
Director, Institute of Education Sciences.

[FR Doc. 2023-18373 Filed 8-24-23; 8:45 am]

BILLING CODE 4000-01-P